DEPARTMENT OF THE TREASURY

Community Development Financial Institutions Fund

Funding Opportunity Title: Notice of Funds Availability (NOFA) Inviting Applications for Financial Assistance (FA) Awards or Technical Assistance (TA) Grants Under the Native American CDFI Assistance (NACA Program) Fiscal Year (FY) 2018 Funding Round

Announcement Type: Announcement of funding opportunity.

Funding Opportunity Number: CDFI-2018-NACA.

Catalog of Federal Domestic Assistance (CFDA) Number: 21.012.

Key Dates:

Table 1—FY 2018 NACA Program Funding Round—Critical Deadlines for Applicants
Description | Deadline | Time (eastern time—ET) | Submission method
Last day to contact Certification, Compliance Monitoring and Evaluation (CCME) staff regarding CDFI Certification | February 28, 2018 | 11:59 p.m | Service Request via Award Management Information System (AMIS).
CDFI certification applications | March 2, 2018 | 11:59 p.m | Electronically via AMIS.
Create AMIS Account (New Applicants) | March 2, 2018 | 11:59 p.m | AMIS.
SF424 (Application for Federal Assistance) | March 2, 2018 | 11:59 p.m | Electronically via Grants.gov.
Last day to contact NACA Program staff | April 2, 2018 | 5:00 p.m | Service Request via AMIS or CDFI Fund Helpdesk: 202-653-0421.
NACA Program Application for Financial Assistance (FA) or Technical Assistance (TA) | April 4, 2018 | 11:59 p.m | AMIS.

Executive Summary: Through the NACA Program, the Community Development Financial Institutions (CDFI) Fund provides (i) FA awards of up to $1 million to Certified Community Development Financial Institutions (CDFIs) serving Native American, Alaska Native, or Native Hawaiian populations or Native American areas defined as Federally-designated reservations, Hawaiian homelands, Alaska Native Villages and U.S. Census Bureau-designated Tribal Statistical Areas (collectively, “Native Communities”) to build their financial capacity to lend to their Target Markets, and (ii) TA grants of up to $150,000 to build Certified, Certifiable, and Emerging CDFIs' organizational capacity to serve their Target Markets and Sponsoring Entities ability to create Certified CDFIs that serve Native Communities. All awards provided through this NOFA are subject to funding availability.

I. Program Description

A. History: The CDFI Fund was established by the Riegle Community Development Banking and Financial Institutions Act of 1994 to promote economic revitalization and community development through investment in and assistance to CDFIs. Since its creation in 1994, the CDFI Fund has awarded more than $2.5 billion to CDFIs, community development organizations, and financial institutions through the Community Development Financial Institutions Program (CDFI Program), the Native American CDFI Assistance Program (NACA Program), the Bank Enterprise Award Program (BEA Program), the Capital Magnet Fund, and the Financial Education and Counseling Pilot Program. In addition, the CDFI Fund has allocated more than $50.5 billion in tax credit allocation authority through the New Markets Tax Credit Program (NMTC Program) and has guaranteed $1.36 billion in bonds for Eligible CDFIs through the CDFI Bond Guarantee Program.

B. Priorities: Through the NACA Program's FA awards and TA grants, the CDFI Fund invests in and builds the capacity of for-profit and non-profit community based lending organizations known as CDFIs. These organizations, certified as CDFIs by the CDFI Fund, serve Native Communities.

C. Program Regulations: The regulations governing the NACA Program are found at 12 CFR parts 1805 and 1815 (the Regulations) and are used by the CDFI Fund to govern, in general, the NACA Program, setting forth evaluation criteria and other program requirements. The CDFI Fund encourages Applicants to review the Regulations; this NOFA; the Application; and the Uniform Administrative Requirements, Cost Principles, and Audit Requirements for Federal Awards (2 CFR 200; 78 Federal Register 78590) (the Uniform Requirements) for a complete understanding of the NACA Program. Capitalized terms in this NOFA are defined in the authorizing statute, the Regulations, this NOFA, the Application, or the Uniform Requirements. Details regarding Application content requirements are found in the Application and related materials.

D. Uniform Administrative Requirements, Cost Principles, and Audit Requirements for Federal Awards (2 CFR 200): The Uniform Requirements codify financial, administrative, procurement, and program management standards that Federal award agencies must follow. When evaluating award applications, awarding agencies must evaluate the risks to the program posed by each applicant, and each applicant's merits and eligibility. These requirements are designed to ensure that applicants for Federal assistance receive a fair and consistent review prior to an award decision. This review will assess items such as the Applicant's financial stability, quality of management systems, the soundness of its business plan, history of performance, ability to achieve measurable impacts through its products and services, and audit findings. In addition, the Uniform Requirements include guidance on audit requirements and other award compliance requirements for Recipients.

E. Funding Limitations: The CDFI Fund reserves the right to fund, in whole or in part, any, all, or none of the Applications submitted in response to this NOFA. The CDFI Fund also reserves the right to reallocate funds from the amount that is anticipated to be available through this NOFA to other CDFI Fund initiatives that are designed to benefit Native American, Native Hawaiian, and Alaskan Native communities, particularly if the CDFI Fund determines that the number of awards made through this NOFA is fewer than projected.

II. Federal Award Information

A. Funding Availability:

1. FY 2018 Funding Round: The CDFI Fund expects to award, through this NOFA, approximately $15.5 million as indicated in the following table:

Table 2—FY 2018 Funding Round Anticipated Category Amounts
Funding categories (see definition in Table 7 for TA or Table 8 for FA) | Estimated total amount to be awarded (millions) | Award amount: Minimum | Award amount: Maximum | Estimated number of awards for FY 2018 | Estimate average amount awarded in FY 2018 | Average amount awarded in FY 2017
FA | $10.95 | $150,000 | $1,000,000 | 19 | $577,000 | $577,000
Persistent Poverty Counties—Financial Assistance (PPC-FA) | 1.55 | 100,000 | 300,000 | 8 | 195,000 | 195,000
TA | 3 | 10,000 | 150,000 | 20 | 147,000 | 147,000
Total (FA, PPC-FA, and TA) | 15.5 |  |  | 47 |  |
Disability Funds—Financial Assistance (DF-FA) * | 2.5 | 100,000 | 500,000 | 10 | 250,000 | N/A
Healthy Food Financing Initiative—Financial Assistance (HFFI-FA) * | 22 | 500,000 | 5,000,000 | 10 | 2,200,000 | 1,700,000
* DF-FA and HFFI-FA appropriation will be allocated in one competitive round between the NACA and CDFI Program NOFAs.

The CDFI Fund reserves the right to award more or less than the amounts cited above in each category, based upon available funding and other factors, as appropriate.

2. Funding Availability for the FY 2018 Funding Round: Funds for the FY 2018 Funding Round are subject to change based on passage of a final FY 2018 budget; if Congress does not appropriate funds for the NACA Program there will not be an FY 2018 Funding Round. If funds are appropriated, the amount of such funds may be greater or less than the amounts set forth above. The CDFI Fund reserves the right to contact applicants to seek additional information in the event that final FY 2018 appropriations for the NACA Program change any of the requirements of this NOFA. As of the date of this NOFA, the CDFI Fund is operating under a continuing funding resolution as enacted by the Extension of Continuing Appropriations Act, 2018 (Public Law 115-120) and Supplemental Appropriations for Disaster Relief Requirements Act, 2017 (Pub. L.115-56).

3. Anticipated Start Date and Period of Performance: The CDFI Fund anticipates the period of performance for the FY 2018 Funding Round will begin in late September 2018. Specifically, the period of performance for TA grants begins with the date of the notice of the award and includes either (i) an Emerging or Certifiable CDFI Recipient's three full consecutive fiscal years after the date of the notice of the award or (ii) a Certified CDFI Recipient's two full consecutive fiscal years after the date of the award announcement or (iii) a Sponsoring Entity award Recipient's four full years after the award announcement, during which the Recipient must meet the performance goals set forth in the Assistance Agreement. The period of performance for FA awards begins with the date of the award announcement and includes a Recipient's three full consecutive fiscal years after the date of the notice of the award, during which time the Recipient must meet the performance goals set forth in the Assistance Agreement.

B. Types of Awards: Through the NACA Program, the CDFI Fund provides two types of awards: Financial Assistance (FA) and Technical Assistance (TA) awards. An Applicant may submit an Application for a TA grant or an FA award, but not both.

1. FA Awards: FA awards can be in the form of loans, grants, Equity Investments, deposits and credit union shares. The form of the FA award is based on the form of the matching funds that the Applicant includes in its Application, unless Congress waives the matching funds requirement. Matching funds are required for FA awards, must be from non-Federal sources, and cannot have been used as matching funds for any other Federal award. The CDFI Fund reserves the right, in its sole discretion, to provide an FA award in an amount other than that which the Applicant requests; however, the award amount will not exceed the Applicant's award request as stated in its Application.

2. Persistent Poverty Counties—Financial Assistance (PPC-FA) Awards: PPC-FA awards will be provided as a supplement to FA awards; therefore, only those Applicants that are selected to receive an FA award through the NACA Program FY 2018 Funding Round will be eligible to receive a PPC-FA award. PPC-FA awards can be in the form of loans, grants, Equity Investment, deposits and credit union shares. The form of the PPC-FA award is based on the form of the matching funds that the Applicant includes in its Application, unless Congress waives the matching funds requirement. Matching funds are required for PPC-FA awards, must be from non-Federal sources, and cannot have been used as matching funds for any other Federal award. The CDFI Fund reserves the right, in its sole discretion, to provide a PPC-FA award in an amount other than that which the Applicant requests; however, the award amount will not exceed the Applicant's award request as stated in its Application.

The PPC-FA award is evaluated independently from the FA award and will not affect the FA award evaluation or amount.

3. Disability Funds—Financial Assistance (DF-FA) Awards: DF-FA awards will be provided as a supplement to FA awards; therefore, only those Applicants that have been selected to receive an FA award through the NACA Program FY 2018 Funding Round will be eligible to receive a DF-FA award. DF-FA awards can be in the form of loans, grants, Equity Investments, deposits and credit union shares. The form of the DF-FA award is based on the form of the matching funds that the Applicant includes in its Application, unless Congress waives the matching funds requirement. Matching funds are required for DF-FA awards, must be from non-Federal sources, and cannot have been used as matching funds for any other Federal award. The CDFI Fund reserves the right, in its sole discretion, to provide a DF-FA award in an amount other than that which the Applicant requests; however, the award amount will not exceed the Applicant's award request as stated in its Application. The DF-FA award is evaluated independently from the FA award and will not affect the FA award evaluation or amount.

4. Healthy Food Financing Initiative—Financial Assistance (HFFI-FA) Awards: HFFI-FA awards will be provided as a supplement to FA awards; therefore, only those Applicants that have been selected to receive an FA award through the NACA Program FY 2018 Funding Round will be eligible to receive an HFFI-FA award. HFFI-FA awards can be in the form of loans, grants, Equity Investments, deposits and credit union shares. The form of the HFFI-FA award is based on the form of the matching funds that the Applicant includes in its Application, unless Congress waives the matching funds requirement. Matching funds are required for HFFI-FA awards, must be from non-Federal sources, and cannot have been used as matching funds for any other Federal award. The CDFI Fund reserves the right, in its sole discretion, to provide an HFFI-FA award in an amount other than that which the Applicant requests; however, the award amount will not exceed the Applicant's award request as stated in its Application. The HFFI-FA award is evaluated independently from the FA award and will not affect the FA award evaluation or amount.

5. TA Grants: TA is provided in the form of grants. The CDFI Fund reserves the right, in its sole discretion, to provide a TA grant in an amount other than which the Applicant requests; however, the TA grant amount will not exceed the Applicant's request as stated in its Application.

C. Eligible Activities:

1. FA Awards: FA, PPC-FA, DF-FA, and HFFI-FA award funds can be expended for activities serving Commercial Real Estate, Small Business, Microenterprise, Community Facilities, Consumer Financial Products, Consumer Financial Services, Commercial Financial Services, Affordable Housing, Intermediary Lending to Non-Profits and CDFIs, and other lines of business as deemed appropriate by the CDFI Fund in the following five categories: (i) Financial Products; (ii) Financial Services; (iii) Loan Loss Reserves; (iv) Development Services; and (v) Capital Reserves. FA Recipients must meet Performance Goals, which will be derived from projections and attestations provided by the Applicant in its application, to achieve one or more of the following FA Objectives: (i) Increase Volume of Financial Products or Financial Services in an Eligible Market(s) or in the Applicant's approved Target Market; (ii) Serve New Geographic Area or Areas; (iii) Provide New Financial Products in an Eligible Market(s) or in the Applicant's approved Target Market, New Financial Services in an Eligible Market(s) or in the Applicant's approved Target Market, or New Development Services in an Eligible Market(s) or in the Applicant's approved Target Market; and (iv) Serve New Targeted Population or Populations. At the end of each year of the period of performance, fifty (50) percent or more of the Financial Products closed by NACA Recipients must be in Native Communities. FA awards can only be used for Direct Costs associated with an eligible activity; no indirect expenses are allowed. Up to 15 percent of the FA award can be used for Direct Administrative Expenses associated with an eligible FA activity. “Direct Administrative Expenses” shall mean Direct Costs, as described in section 2 CFR 200.413 of the Uniform Requirements, which are incurred by the Recipient to carry out the Financial Assistance. Direct Costs incurred to provide Development Services or Financial Services do not constitute Direct Administrative Expenses. The Recipient must comply, as applicable, with the Buy American Act of 1933, 41 U.S.C. 8301-8303, with respect to any Direct Costs. For purposes of this NOFA, the five eligible activity categories are defined as follows:

Table 3—FA, PPC-FA, DF-FA, and HFFI-FA Eligible Activity Categories
FA eligible activity | FA eligible activity definition—all FA eligible activities must be in an eligible market or the applicant's approved target market | Eligible CDFI institution types
i. Financial Products | FA expended as loans, Equity Investments and similar financing activities (as determined by the CDFI Fund) including the purchase of loans originated by certified CDFIs and the provision of loan guarantees; in the case of CDFI Intermediaries, Financial Products may also include loans to CDFIs and/or emerging CDFIs and deposits in Insured Credit Union CDFIs, emerging Insured Credit Union CDFIs, and/or State-Insured Credit Union CDFIs. For HFFI-FA, however, the purchase of loans originated by certified CDFIs is not an Eligible Activity | All.
ii. Financial Services | FA expended for providing checking, savings accounts, check cashing, money orders, certified checks, deposit taking, safe deposit box services, and other similar services | Insured Depository Institutions and Depository Institution Holding Company only. Not applicable for HFFI-FA Recipients.
iii. Loan Loss Reserves | FA set aside in the form of cash reserves, or through accounting-based accrual reserves, to cover losses on loans, accounts, and notes receivable or for related purposes that the CDFI Fund deems appropriate | All.
iv. Development Services | FA expended for activities undertaken by a CDFI, its Affiliate or contractor that promote community development and shall prepare or assist current or potential borrowers or investees to use the CDFI's Financial Products or Financial Services. For example, such activities include, financial or credit counseling; homeownership counseling; and business planning and management assistance | All.
v. Capital Reserves | FA set aside as reserves to support the Applicant's ability to leverage other capital, for such purposes as increasing its net assets or provide financing, or for related purposes as the CDFI Fund deems appropriate | Insured Depository Institutions and Depository Institution Holding Company only. Not applicable for DF-FA.

Eligible Market is defined as (i) a geographic area meeting the requirements set forth in 12 CFR 1805.201(b)(3)(ii), or (ii) individuals that are Low-Income or are African American, Hispanic or American Indian, Native Hawaiians residing in Hawaii, Native Alaskans residing in Alaska, and Other Pacific Islanders residing in American Samoa, Guam or the Northern Mariana Islands.

2. DF-FA Award: DF-FA award funds can only be expended for eligible FA activities referenced in Table 3 to directly or indirectly benefit individuals with disabilities. The DF-FA Recipient must close Financial Products for the primary purpose of directly or indirectly benefiting people with disabilities in an amount equal to or greater than 85 percent of the total DF-FA provided. Such financing activities have a primary purpose of directly or indirectly benefiting individuals with disabilities where the majority of the DF-FA supported loans or investments benefit individuals with disabilities. Eligible DF-FA financing activities may include, among other activities, loans to develop or purchase affordable, accessible, and safe housing; loans to provide or facilitate employment opportunities; and loans to purchase assistive technology.

For the purposes of DF-FA, a person with a Disability is: A person who has a physical or mental impairment that substantially limits one or more major life activities, a person who has a history or record of such an impairment, or a person who is perceived by others as having such an impairment, as defined by the American Disabilities Act (ADA) at https://www.ada.gov/cguide.htm.

3. TA Grants: TA grant funds can be expended for the following seven eligible activity categories: (i) Compensation—personnel services; (ii) Compensation—fringe benefits; (iii) Professional Service Costs; (iv) Travel Costs; (v) Training and Education Costs; (vi) Equipment and other capital expenditures; and (vii) Supplies. Each of the eligible activity categories will not be authorized for indirect costs or an associated indirect cost rate. The Recipient must comply, as applicable, with the Buy American Act of 1933, 41 U.S.C. 8301-8303, with respect to any Direct Costs. For purposes of this NOFA, the seven eligible activity categories are defined as follows:

Table 4—TA Eligible Activity Categories as Subject to the Applicable Provisions of the Uniform Requirements
(i) Compensation—personnel services | TA paid to cover salaries of the Applicant's personnel that are paid currently or accrued by the Applicant for work performed directly related to carrying out the purpose of the TA grant (including activities related to becoming certified as a CDFI).
| Any work performed directly but unrelated to the purposes of the TA grant cannot be paid as Compensation through a TA grant. For example, the salaries for building maintenance would not carry out the purpose of a TA grant and would be deemed unallowable.
(ii) Compensation—fringe benefits | TA paid to cover costs of the Applicant's personnel employment (other than the employees' salaries). The costs of fringe benefits are allowable provided that the benefits are reasonable and are required by law, non-Federal entity-employee agreement, or an established policy of the non-Federal entity and consistently applied organizational policies.
(iii) Professional service costs | TA used to pay for professional and consultant services (e.g., such as strategic and marketing plan development), rendered by persons who are members of a particular profession or possess a special skill (e.g., credit analysis, portfolio management), and who are not officers or employees of the Recipient. Payment for a consultant's services may not exceed the current maximum of the daily equivalent rate paid to an Executive Schedule Level IV Federal employee. Professional and consultant services must build the capacity of the CDFI. For example, professional services that provide direct development services to the customers does not build the capacity of the CDFI to provide those services and would not be eligible.
(iv) Travel costs | TA used to pay expenses for transportation, lodging, subsistence, and related items incurred by the Applicant's personnel (does not include consultants or board members) who are on travel status on business related to the TA grant. Any payments for travel expenses incurred by the Applicant's personnel but unrelated to carrying out the purpose of the TA grant would be deemed unallowable. As such, documentation must be maintained that justifies the travel as necessary to the TA grant.
(v) Training and education costs | TA used to pay the cost of training and education provided for employee development. TA can only be used to pay for training costs incurred by the Applicant's personnel (does not include consultants or board members).
(vi) Equipment | TA used to pay for tangible personal property, having a useful life of more than one year and a per-unit acquisition cost of at least $5,000. For example, items such as office furnishings and information technology systems are allowable as Equipment costs. The Recipient must comply, as applicable, with the Buy American Act of 1933, 41 U.S.C. 8301-8303 with respect to the purchase of Equipment.
(vii) Supplies | TA used to pay for tangible personal property with a per unit acquisition cost of less than $5,000. For example, a desktop computer costing $1,000 is allowable as a Supply cost. The Recipient must comply, as applicable, with the Buy American Act of 1933, 41 U.S.C. 8301-8303 with respect to the purchase of Supplies.
(viii) Unallowable Costs | The following costs are unallowable and cannot be paid for with a TA grant (but not limited to per the UAR):
| • Selling or marketing products or services of the non-federal entity that are not directly related to building the capacity of the CDFI;
| Advertising media, including printing of materials, the cost of displays, demonstrations, and exhibits that are not directly related to building the capacity of the CDFI;
| • Promotional items and memorabilia;
|  | • Advertising and public relations designed solely to promote the non-Federal entity that are not directly related to building the capacity of the CDFI;
| • Facilities acquisition/development costs;
| • Fees, including fees paid to brokers, promoters, organizers, management consultants, attorneys, accountants, or investment counselor;
| • Memberships in country clubs or organizations whose primary purpose is lobbying;
| • Audit costs for audits either: (1) Required under the Single Audit Act but have not been conducted or have been conducted but not in accordance with the Single Audit Act requirements; or (2) for a non-Federal entity that is exempted from having an audit conducted in the Single Audit act.

4. HFFI-FA Award: HFFI-FA award funds can only be expended for eligible FA activities referenced in Table 3. The HFFI-FA investments must comply with the following guidelines:

a. Recipient must close Financial Products for Healthy Food Retail Outlets and Healthy Food Non-Retail Outlets in its Target Market in an amount equal to or greater than 100 percent of the total HFFI Financial Assistance provided. Eligible financing activities to Healthy Food Retail Outlets and Healthy Food Non-Retail Outlets require that the majority of the loan or investment be devoted to offering a range of Healthy Food choice, which may include, among other activities, investments supporting an existing retail store or wholesale operation upgrade to offer an expanded range of Healthy Food choices, or supporting a nonprofit organization that expands the availability of Healthy Foods in underserved areas.

b. Recipient must demonstrate that it has closed Financial Products to Healthy Food Retail Outlets located in Food Deserts in the Recipient's Target Market in an amount equal to 75 percent of the total HFFI Financial Assistance provided.

Definitions

Healthy Foods. Healthy Foods include unprepared nutrient-dense foods and beverages as set forth in the USDA Dietary Guidelines for Americans 2015-2020 including whole fruits and vegetables, whole grains, fat free or low-fat dairy foods, lean meats and poultry (fresh, refrigerated, frozen or canned). Healthy Foods should have low or no added sugars, and be low-sodium, reduced sodium, or no-salt-added. (See USDA Dietary Guidelines: http://www.choosemyplate.gov/dietary-guidelines).

Healthy Food Retail Outlets. Commercial sellers of Healthy Foods including, but not limited to, grocery stores, mobile food retailers, farmers markets, retail cooperatives, corner stores, bodegas, stores that sell other food and non-food items along with a range of Healthy Foods, as those terms are determined and defined by the CDFI Fund in the Assistance Agreement and related compliance materials.

Healthy Food Non-Retail Outlets. Wholesalers of Healthy Foods including, but not limited to, wholesale food outlets, wholesale cooperatives, or other non-retail food producers that supply for sale a range of Healthy Food options; entities that produce or distribute Healthy Foods for eventual retail sale, and entities that provide consumer education regarding the consumption of Healthy Foods, as those terms are determined and defined by the CDFI Fund in the Assistance Agreement and related compliance materials.

Food Deserts. Distressed geographic areas where either a substantial number or share of residents has low access to a supermarket or large grocery store. For the purpose of satisfying this requirement, a Food Desert must either: (1) Be a census tract determined to be a Food Desert by the U.S. Department of Agriculture (USDA), in its USDA Food Access Research Atlas; (2) be a census tract adjacent to a census tract determined to be a Food Desert by the USDA, in its USDA Food Access Research Atlas; which has a median family income less than or equal to 120 percent of the applicable Area Median Family Income; or (3) be a Geographic Unit as defined in 12 CFR part 1805.201(b)(3)(ii)(B), which (i) individually meets at least one of the criteria in 12 CFR part 1805.201(b)(3)(ii)(D), and (ii) has been identified as having low access to a supermarket or grocery store through a methodology that has been adopted for use by another governmental or philanthropic healthy food initiative.

5. PPC-FA Award: PPC-FA award funds can only be expended for eligible FA activities referenced in Table 3. The PPC-FA Recipient must close Financial Products to an Eligible Market or in the Applicant's approved Target Market in a Persistent Poverty Counties (PPC) in an amount equal to or greater than 100 percent of the total PPC Financial Assistance provided.

The specific counties that meet the criteria for “persistent poverty” can be found at: https://www.cdfifund.gov/Documents/Persistent%20Poverty%20Counties%20CDFI%20Fund%20July6-2017.xlsx.

III. Eligibility Information

A. Eligible Applicants: For the purposes of this NOFA, the following tables set forth the eligibility criteria to be in contention to receive an award from the CDFI Fund, along with certain definitions of terms. There are four categories of Applicant eligibility criteria: (1) CDFI certification criteria (Table 5); (2) requirements that apply to all Applicants (Table 6); (3) requirements that apply to TA Applicants (Table 7); and (4) requirements that apply to FA Applicants (Table 8).

Table 5—CDFI Certification Criteria Definitions
Certified CDFI | • An entity that the CDFI Fund has officially notified that it meets all CDFI certification requirements.
Certifiable CDFI | • An entity that has submitted a CDFI certification application to the CDFI Fund demonstrating that it meets the CDFI certification requirements but which has not yet been officially certified. (See Table 12 for application submission deadlines.)
| • The CDFI Fund will not enter into an Assistance Agreement or make an FA award payment unless and until an Applicant is a Certified CDFI.
| • The CDFI Fund will enter into an Assistance Agreement if the Applicant is awarded a TA award regardless of the Applicant's certification status.
Emerging CDFI (TA Applicants) | • A non-Certified entity that has not submitted a CDFI certification application but demonstrates to the CDFI Fund in its Application that it has an acceptable plan to meet CDFI certification requirements by the end of its period of performance, or another date that the CDFI Fund selects.
| • An Emerging CDFI that has prior award(s) will be held to the CDFI certification performance goal and measure(s) stated in its prior Assistance Agreement(s).
| • Emerging CDFIs may only apply for TA grants; they are not eligible to apply for FA awards.
| • Emerging CDFI selected to receive a TA grant will be required to become a Certified CDFI by a date specified in the Assistance Agreement.
Sponsoring Entity | • Sponsoring Entities include any legal organization that primarily serves Native Community with “primary” meaning, at least 50 percent of its activities are directed toward the Native Community.
| • An eligible organization that proposes to create a separate legal organization that will become a Certified CDFI serving Native Communities.
| • Sponsoring Entities may only apply for TA grants; they are not eligible to apply for FA awards.
| • Each Sponsoring Entity selected to receive a TA grant will be required to create and certify an Emerging CDFI by the dates specified in the Assistance Agreement.
Definition of Native Other Targeted Population as Target Market | The CDFI Fund uses the following definitions, set forth in the Office of Management and Budget (OMB) Notice, Revisions to the Standards for the Classification of Federal Data on Race and Ethnicity (October 30, 1997), as amended and supplemented:
| • American Indian, Native American, or Alaska Native: A person having origins in any of the original peoples of North and South America (including Central America) and who maintains tribal affiliation or community attachment; and
| • Native Hawaiian (living in Hawaii): A person having origins in any of the original peoples of Hawaii.

Table 6—Eligibility Requirements for All Applicants
Applicant | • Only the entity that will carry out the proposed award activities can apply for an award (i.e., the intended Recipient, other than Depository Institution Holding Companies (see below) and Sponsoring Entities). Recipients cannot create a new legal entity to carry out the proposed award activities (except for Sponsoring Entities).
| • The information in the Application should only reflect the activities of the Applicant, including the presentation of financial and portfolio information. Do not include financial or portfolio information from parent companies, Affiliates, or Subsidiaries in the Application unless it relates to the provision of Development Services.
| • An Applicant that applies on behalf of another organization will be rejected without further consideration, other than Depository Institution Holding Companies (see below).
Application type and submission overview through Grants.gov and Awards Management Information System (AMIS) | • Applicants must submit the required application documents listed in Table 10. • The CDFI Fund will only accept Applications that use the official application templates provided on the Grants.gov and AMIS websites. Applications submitted with alternative or altered templates will not be considered.
| • Applicants have a two-step process that requires the submission of application documents on two separate deadlines and locations: (1) The SF-424 in Grants.gov and (2) all other required application materials in AMIS.
| • Grants.gov and the SF-424:
| ○ Grants.gov: Applicants must submit the Office of Management and Budget (OMB) Standard Form (SF) OMB SF-424, Application for Federal Assistance.
| ○ All Applicants must register in the Grants.gov system to successfully submit an application. The Grants.gov registration process can take 30 days or more to complete. The CDFI Fund strongly encourages applicants to register as early as possible.
| ○ The CDFI Fund will not extend the SF-424 (or AMIS) application deadline for any Applicant that started the Grants.gov registration process on, before, or after the date of the publication of this NOFA, but did not complete it by the deadline except in the case of a Federal government administrative or technological error that directly resulted in a late submission of the SF-424.
| ○ The SF-424 must be submitted in Grants.gov on or before March 2, 2018, the deadline listed in Table 1 and Table 12. Applicants are strongly encouraged to submit their SF-424 as early as possible in the Grants.gov portal.
| ○ The deadline for the Grants.gov submission is before the AMIS deadline.
| ○ The SF-424 must be submitted under the NACA Program Funding Opportunity Number.
| ○ If the SF-424 is not accepted by Grants.gov by the deadline, the CDFI Fund will not review any material submitted in AMIS and the application will be deemed ineligible.
| • AMIS and all other required application materials:
| ○ AMIS is an enterprise-wide information technology system that replaced the myCDFI Fund portal. Applicants will use AMIS to submit and store organization and application information with the CDFI Fund.
| ○ Applicants are only allowed one NACA Program Application submission in AMIS.
| ○ Each Application in AMIS must be signed by an Authorized Representative.
| ○ Applicants must ensure that the Authorized Representative is authorized to sign legal documents on behalf of the organization; consultants working on behalf of the organization cannot be designated as Authorized Representatives.
| ○ Only the Authorized Representative or Application Point of Contact, included in the Application, can submit the Application in AMIS.
| ○ All required application materials must be submitted in AMIS on or before the deadline specified in Tables 1 and 12.
Employer Identification Number (EIN) | • Applicants must have a unique EIN assigned by the Internal Revenue Service (IRS). • The CDFI Fund will reject an Application submitted with the EIN of a parent or Affiliate organization.
Dun & Bradstreet, (DUNS) number | • Pursuant to OMB guidance (68 FR 38402), an Applicant must apply using its unique DUNS number in Grants.gov.
| • The CDFI Fund will reject an Application submitted with the DUNS number of a parent or Affiliate organization.
System for Award Management (SAM) | • SAM is a web-based, government-wide application that collects, validates, stores, and disseminates business information about the federal government's trading partners in support of the contract awards, grants, and electronic payment processes.
| • Applicants must register in SAM as part of the Grants.gov registration process.
| • Applicants must have a DUNS number and an EIN number in order to register in SAM.
| • Applicants must be registered in SAM before they can submit an SF-424 in Grants.gov.
AMIS Accounts | • Each Applicant must register as an organization in AMIS and submit all required application materials through the AMIS portal.
| • The Application of any organization that does not properly register in AMIS by the deadline set forth in Table 1-FY 2018 NACA Program Funding Round Critical Deadlines for Applicants will be rejected without further consideration.
| • The Authorized Representative and/or Application Point of Contact must be included as “users” in the Applicant's AMIS account.
| • An Applicant that fails to properly register and update its AMIS account may miss important communication from the CDFI Fund or not be able to successfully submit an Application.
501(c)(4) status | • Pursuant to 2 U.S.C. 1611, any 501(c)(4) organization that engages in lobbying activities is not eligible for the receipt of a CDFI or NACA Program award.
Compliance with Nondiscrimination and Equal Opportunity Statutes, Regulations, and Executive Orders | • An Applicant may not be eligible to receive an award if proceedings have been instituted against it in, by, or before any court, governmental agency, or administrative body, and a final determination within the last three years indicates the Applicant has violated any of the following laws but not limited to: Title VI of the Civil Rights Act of 1964, as amended (42 U.S.C.2000d); Section 504 of the Rehabilitation Act of 1973 (29 U.S.C. 794); the Age Discrimination Act of 1975 (42 U.S.C. 6101-6107), and Executive Order 13166, Improving Access to Services for Persons with Limited English Proficiency.
Depository Institution Holding Company Applicant | • In the case where a CDFI Depository Institution Holding Company Applicant intends to carry out the activities of an award through its Subsidiary CDFI Insured Depository Institution, the Application must be submitted by the CDFI Depository Institution Holding Company and reflect the activities and financial performance of the Subsidiary CDFI Insured Depository Institution.
| • Authorized representatives of both the Depository Institution Holding Company and the Subsidiary CDFI Insured Depository Institution must certify that the information included in the Application represents that of the Subsidiary CDFI Insured Depository Institution, and that the award funds will be used to support the Subsidiary CDFI Insured Depository Institution for the eligible activities outlined in the Application.
Insured CDFI—Insured Credit Union and Insured Depository Institution | • To be eligible for an award, each Insured Depository Institution Applicant must have a CAMELS/CAMEL rating (rating for banks and credit unions, respectively), by its Federal regulator of at least “3”. • Organizations with CAMELS/CAMEL ratings of “4 or 5” will not be eligible for awards.
| • The CDFI Fund will also evaluate materials concerns identified by the Appropriate Federal Banking Agency in determining eligibility of Insured Depository Institution Applicants.
Use of award | • All awards made through this NOFA must be used to support the Applicant's activities in at least one of the FA or TA Eligible Activity Categories (see Section II.C).
| • Awards cannot be used to support the activities of, or otherwise be passed through, transferred, or co-awarded to, third-party entities, whether Affiliates, Subsidiaries, or others without the CDFI Fund's prior written consent (other than Depository Institution Holding Company Applicants).
| • The Recipient of any award made through this NOFA must comply, as applicable, with the Buy American Act of 1933, 41 U.S.C. 8301-8303, with respect to any Direct Costs.
Requested award amount | • An Applicant must state its requested award amount in the Application in AMIS. An Application that does not include this amount will not be allowed to submit an Application.
Pending resolution of noncompliance | • The CDFI Fund will consider an Application submitted by an Applicant that has pending noncompliance issues of any of its previously executed award agreement(s), if the CDFI Fund has not yet made a final compliance determination.
Noncompliance status | • The CDFI Fund will not consider an Application submitted by an Applicant that has a previously executed award agreement(s) if, as of the date of the Application, (i) the CDFI Fund has made a determination that such entity is noncompliant with a previously executed agreement and (ii) the CDFI Fund has provided written notification that such entity is ineligible to apply for or receive any future CDFI Fund awards or allocations. Such entities will be ineligible to submit an Application for such time period as specified by the CDFI Fund in writing.
| • The CDFI Fund will not consider any Applicant that has defaulted on a NACA Program loan within five years of the Application deadline.

Table 7—Eligibility Requirements for TA Applicants
CDFI certification status | Certified, Certifiable, Emerging CDFIs, or Sponsoring Entities (see definitions in Table 5).
Matching funds | • Matching funds documentation is not required for TA awards.
Limitation on Awards | • An Emerging CDFI serving Native Communities will be allowed to receive no more than three TA awards as an uncertified CDFI.
| • A Sponsoring Entity is only eligible to apply for an award if (i) it does not have an active prior award or (ii) the certification goal in its active award's Assistance Agreement has been satisfied and it proposes to create another CDFI that will serve one or more Native Communities.
Proposed Activities | • Applicants must propose to directly undertake eligible activities with TA awards. For example, an uncertified CDFI Applicant must propose to become certified as part of its application and a Certified CDFI Applicant must propose activities that build its capacity to serve its Target Market or an Eligible Market.
| • With the exception of Sponsoring Entities, Applicants may not propose to use a TA award to create a separate legal entity to become a certified CDFI or otherwise carryout the TA award activities.
Target Market | • TA Applicants must demonstrate that the Certified, Certifiable, Emerging CDFI, or the CDFI to be created by the Sponsoring Entity will primarily serve one or more Native Community as its Target Market.

Table 8—Eligibility Requirements for FA Applicants
CDFI certification status | • Each FA Applicant must be a Certified CDFI prior to the announcement of award decisions.
| • The CDFI Fund will consider an Application submitted by an Applicant that has pending noncompliance issues with its Annual Certification Report, if the CDFI Fund has not yet made a final compliance determination.
Activities in Native Communities | • For consideration under this NOFA, each FA Applicant must:
| ○ Demonstrate that at least 50 percent of its past activities were in one or more Native Communities; and
| ○ describe how it will target its lending/investing activities to one or more Native Communities.
Target Market | • For consideration under this NOFA, an FA Applicant's certification Target Market must have one or more of the following characteristics:
| ○ For qualifying with an investment area Target Market, the Applicant must demonstrate that the investment area approved for certification is also a geographic area of Federally-designated reservations, Hawaiian homelands, Alaska Native Villages and U.S. Census Bureau designated Tribal Statistical Areas; and/or
| ○ For qualifying with an Other Targeted Population (OTP) Target Market, the applicant's Target Market approved for certification must be an OTP of Native Americans or American Indians, including Alaska Natives living in Alaska and Native Hawaiians living in Hawaii.
| • Any FA Applicant whose certification Target Market does not meet either of the conditions above will not be eligible for an FA award under this NOFA.
Community collaboration | • All FA Applicants must demonstrate strong community collaboration with Native Communities.
Matching funds documentation | • All Applicants must submit acceptable documentation attesting that they have received or will receive matching funds. Applicants that do not submit the Matching Funds Excel Workbook documenting the source of their matching funds will not be evaluated.
| • Awards will be limited to no more than two times the amount of In-Hand or Committed matching funds documentation provided at the time of Application.
| • Awards will be obligated in like form to the matching funds provided at time of Application. See Table 9. Matching Funds “Determination of Award Form” for additional guidance.
| • Award payments from the CDFI Fund will require eligible dollar-for-dollar In-Hand matching funds for the total payment amount. Recipients will not receive a payment until 100 percent of their matching funds are In-Hand.
| • The CDFI Fund will reduce and de-obligate the remaining balance of any Award that does not demonstrate full dollar-for-dollar matching funds equal to the announced award amount by the end of the Matching Funds Window.
$5 Million funding cap | • The CDFI Fund is prohibited from obligating more than $5 million in CDFI and NACA Program awards, in the aggregate, to any one organization and its Subsidiaries and Affiliates during any three-year period.
| • For purposes of this NOFA and subject to final FY 2018 appropriations language, the CDFI Fund will include CDFI and NACA Program final awards in the cap calculation that were provided to an Applicant (and/or its Subsidiaries or Affiliates) under the FY 2016 and 2017 funding rounds, as well as the requested FY 2018 award, excluding DF-FA and HFFI-FA awards. The CDFI Fund will make the FY 2018 funding round award announcements after September 10, 2018.
FA Applicants with Community Partners | • A NACA Applicant can apply for assistance jointly with a Community Partner. The NACA Applicant would complete the NACA Program Application for (FA) and would address the Community Partnership in its business plan and other sections of the Application as specified in the guidance materials.
| • The NACA Applicant must be either a Certified or Certifiable CDFI as defined in Table 5.
| • An Application with a Community Partner must:
| ○ Describe how the NACA Applicant and Community Partner will each participate in carrying out the partnership and how the partnership will enhance activities serving the investment area or targeted population.
| ○ Demonstrate that the Community Partnership activities are consistent with the strategic plan submitted by the NACA Applicant.
| • Assistance provided upon approval of an Application with a Community Partner shall only be entrusted to the NACA Applicant and shall not be used to fund any activity carried out directly by the Community Partner or an Affiliate or Subsidiary thereof.
PPC-FA | • All PPC-FA Applicants must:
| ○ Submit a CDFI or NACA Program FA Application;
| ○ Meet all NACA FA award eligibility requirements; and
| ○ Provide a PPC-FA award request amount in AMIS.
DF-FA | • All DF-FA Applicants must:
| ○ Submit a CDFI or NACA Program FA Application;
| ○ Meet all NACA FA award eligibility requirements;
| ○ Submit the DF-FA Application; and
| ○ Provide a DF-FA award request amount in AMIS.
HFFI-FA | • All HFFI-FA Applicants must:
| ○ Submit a CDFI or NACA Program FA Application;
| ○ Meet all NACA FA award eligibility requirements;
| ○ Submit the HFFI-FA Application; and
| ○ Provide a HFFI-FA award request amount in AMIS.

B. Matching Funds Requirements: In order to receive an FA award, an Applicant must provide evidence of eligible dollar-for-dollar matching funds and attest that it can provide acceptable documentation upon the CDFI Fund's request. An Applicant that uses Retained Earnings or Equity Investments must provide documentation of eligible dollar-for-dollar matching funds at the time of application submission. The CDFI Fund will review matching funds information, attestations, and matching funds documentation, if applicable, prior to award payment and will pay funds based upon eligible In-Hand matching funds (see Table 9 for the definition of In-Hand). The CDFI Fund encourages Applicants to review the Regulations at 12 CFR 1805.500, the Uniform Requirements, and the matching funds guidance materials available on the CDFI Fund's website. Table 9 provides a summary of the matching funds requirements; additional details are set forth in the Application materials.

Table 9—Matching Funds Requirements
In-Hand matching funds definition | • Matching funds are In-Hand when the Applicant receives payment for the matching funds from the matching funds source and has acceptable documentation that can be provided to the CDFI Fund upon request. Acceptable In-Hand documentation must show the source, form (e.g., grant, loan, deposit, and Equity Investment), amount received, and the date the funds came into physical possession of the Applicant.
| • The following documentation, depending on the matching funds type, must be available to be provided to the CDFI Fund upon request:
| • Loan—the loan agreement and/or promissory note;
| • grant—the grant letter or agreement;
| • equity investment—the stock certificate, documentation of total equity outstanding, and shareholder agreement;
| • retained earnings—Retained Earnings Calculator and audited financial statements or call reports from regulating entity for each fiscal year reported in Retained Earnings Calculator;
| • third party in-kind contribution- evidence of receipt of contribution and valuation;
| • deposits—certificates of deposit agreement;
| • secondary capital—secondary capital agreement and disclosure and acknowledgement statement;
| AND
| • clearly legible documentation that demonstrates actual receipt of the matching funds including the date of the transaction and the amount, such as a copy of a check or a wire transfer statement.
| • Applicants must provide information on their In-Hand matching funds in the Matching Funds Breakout Table Excel Workbook (refer to Table 10—Required Application Documents) which must be submitted at the time of Application.
| • Although Applicants are not required to provide further documentation for In-Hand matching funds at the time of Application submission, other than for Retained Earnings and Equity Investments, they must be able to provide documentation to the CDFI Fund upon request.
Matching funds requirements by application type | The following Applicants must provide evidence of acceptable matching funds: • NACA FA Applicants applying for FA, PPC-FA, and DF-FA (upon request) *; and
| • HFFI-FA Applicants (upon request).*
| TA Applicants are not required to provide matching funds.
| * The matching funds requirement for HFFI-FA and NACA FA applicants was waived in the appropriations bill for FY 2017 and the final FY 2018 appropriations are still pending. HFFI-FA and NACA FA applicants are not required to submit matching funds for their award requests at the time of application. However, the CDFI Fund reserves the right to request matching funds from HFFI-FA and NACA FA applicants if matching funds are not waived in the final FY 2018 NACA Program appropriation.
Amount of required match | Applicants must provide evidence of eligible, In-Hand, dollar-for-dollar, non-Federal matching funds for every FA award dollar to be paid by the CDFI Fund. If awarded, Applicants that do not demonstrate 100 percent In-Hand matching funds at the time of Application may experience a longer payment timeline.
Determination of award form | FA awards will be made in comparable form and value to the eligible In-Hand and/or Committed matching funds documentation submitted by the Applicant.
| • For example, if an FA Applicant provides documentation of eligible loan matching funds for $200,000 and eligible grant matching funds of $400,000, the CDFI Fund will obligate $200,000 of the FA award as a loan and $400,000 as a grant.
| • After awards have been announced, Recipients may request the CDFI Fund's permission to change the form of their award from loan to grant (by producing eligible grant matching funds), but will only be eligible to receive a grant equal to the federal credit subsidy amount associated with the original loan. Applicants will also experience delays in payments if requested form of award changes are approved by the CDFI Fund.
Matching Funds Window definition | • The Applicant must receive eligible In-Hand matching funds between January 1, 2016 and January 15, 2019.
| • A Recipient must provide the CDFI Fund with all documentation demonstrating the receipt of In-Hand matching funds by January 31, 2019.
Matching funds and form of award | • Recipients will be approved for a maximum award size of two times the total amount of eligible In-Hand and/or Committed matching funds included in the Application, so long as they do not exceed the maximum award amount.
| • The form of the matching funds documented in the Application determines the form of the award.
Committed matching funds definition | • Matching funds are Committed when the Applicant has entered into or received a legally binding commitment from the matching funds source showing the matching funds will be disbursed to the Applicant at a future date.
| • The Applicant must be able to provide the CDFI Fund, upon request, acceptable written documentation showing the source, form, and amount of the Committed matching funds (including, in the case of a loan, the terms thereof), as well as the anticipated payment date of the Committed funds.
| • The Applicant must provide information on their Committed matching funds in the Matching Funds Breakout Table Excel Workbook (refer to Table 10—Required Application Documents) which must be submitted at the time of Application.
| • Although the Applicant is not required to provide further documentation for Committed matching funds at the time of Application submission, other than for Retained Earnings, they must be able to provide documentation to the CDFI Fund upon request.
Limitations on matching funds | • Matching funds must be from non-Federal sources.
| • Applicants cannot proffer matching funds that were accepted as matching funds for a prior FA award under the NACA Program, NACA Program, or under another Federal grant or award program.
| • Matching funds must comply with Regulations at 12 CFR 1805.500 et seq.
| • Matching funds must be attributable to at least one of the five eligible FA activities (see Section II.C).
Rights of the CDFI Fund | • The CDFI Fund reserves the right to contact the matching funds source to discuss the matching funds and the documentation that the Applicant provided if required or requested.
| • The CDFI Fund may grant an extension of the Matching Funds Window (defined in Table 9), on a case-by-case basis, if the CDFI Fund deems it appropriate.
| • The CDFI Fund reserves the right to rescind all or a portion of an FA award and re-allocate the rescinded award amount to other qualified Applicant(s), if a Recipient fails to provide evidence of In-Hand Matching Funds totaling its award amount obtained during the Matching Funds Window.
Matching funds in the form of third-party in-kind contributions | • Third party in-kind contributions are non-cash contributions (i.e., property or services) provided by non-Federal third parties to the Applicant.
| • Third party in-kind contributions will be considered to be in the form of a grant for matching funds purposes.
| • Third party in-kind contributions may be in the form of real property, equipment, supplies, and other expendable property, and the value of goods and services directly benefiting the eligible activities.
| • For third party in-kind contributions, the fair market value of goods and services must be documented as the grant match.
| • Applicants will be responsible for documenting the value of all in-kind contributions as described in the Uniform Requirements.
Matching funds in the form of a loan | • An FA award made in the form of a loan will have the following standardized terms: i. A 13-year term with semi-annual interest-only payments due in years 1 through 10, and fully amortizing payments due each year in years 11 through 13; and
| ii. A fixed interest rate of 2.24 percent, which was calculated by the CDFI Fund based on the U.S. Department of the Treasury's 10-year Treasury note.
| • The Applicant's matching funds loan(s) must:
| i. Have a minimum of a 3-year term (loans presented as matching funds with less than a 3-year term will not qualify as eligible match); and
| ii. be from a non-Federal source.
Severe Constraints Waiver | • In the case of an Applicant demonstrating severe constraints on available sources of matching funds, the CDFI Fund, in its sole discretion, may permit such Applicant to comply with the matching funds requirements by reducing such requirements by up to 50 percent.
| • In order to be considered eligible for a Severe Constraints Waiver, an Applicant must meet all of the NACA FA eligibility criteria described in Table 8. Instructions for requesting a Severe Constraints Waiver will be made available if required.
| • No more than 25 percent of the total funds available for obligation under this funding round may be matched under the Severe Constraints Waiver.
Ineligible matching funds | • If the CDFI Fund determines that any portion of the Applicant's matching funds is ineligible, the CDFI Fund will permit the Applicant to offer documentation of alternative matching funds as a substitute for the ineligible matching funds.
| • In such instances:
| i. The Applicant must provide acceptable evidence of the alternative matching funds within the period of time specified by the CDFI Fund, and
| ii. the alternative matching funds will not increase the total amount of FA requested.
Use of matching funds from a prior CDFI Program Recipient | If an Applicant offers matching funds documentation from an organization that was a prior Recipient under the CDFI Program or NACA Program, the Applicant must be able to prove to the CDFI Fund's satisfaction that such funds do not consist, in whole or in part, of CDFI Program funds, NACA Program funds, or other Federal funds.
Matching funds in the form of retained earnings | • Retained earnings are eligible for use as matching funds when the CDFI Fund calculates an amount equal to:
| i. The increase in retained earnings that occurred over any one of the Applicant's fiscal years within the Matching Funds Window, adjusted to remove revenue and expenses derived from Federal sources and matching funds used for an award; or
| ii. the annual average of such increases that occurred over any three consecutive fiscal years of the Applicant with at least one of the fiscal years occurring within the Matching Funds Window, adjusted to remove revenue and expenses derived from Federal sources and matching funds used for an award; or
| iii. any combination of (i) and (ii) above that does not include matching funds used for an award.
| • Retained earnings will be matched with an FA award in the form of a grant.
| • Depository Institution Holding Company Applicants must provide call reports for the Depository Institution Holding Company in order to verify their retained earnings, even if the requested FA award will support its subsidiary bank.
Special rule for Insured Credit Unions and Insured Depository Institutions | • An Insured Credit Union's and Insured Depository Institution's retained earnings are eligible for use as matching funds when the CDFI Fund calculates an amount equal to: i. The increase in retained earnings that occurred over any one of the Applicant's fiscal years within the Matching Funds Window, adjusted to remove revenue from Federal sources and matching funds used for an award; or
| ii. the annual average of such increases that occurred over any three consecutive fiscal years of the Applicant with at least one of the fiscal years occurring within the Matching Funds Window, adjusted to remove revenue and expenses derived from Federal sources and matching funds used for an award; or
| iii. the entire retained earnings that have been accumulated since the inception of the Applicant, as provided in the Regulations.
| • If option (iii) is used for Insured Credit Unions, the Applicant must increase its member and/or non-member shares and/or total loans outstanding by an amount equal to the amount of retained earnings committed as matching funds.
| • This increase will be measured on a quarterly basis from March 31, 2018; must occur by the end of Year 1 of the Recipient's Performance Period, as set forth in its Assistance Agreement; and will be based on amounts reported in the Applicant's National Credit Union Administration (NCUA) form 5300 Call Report.
| • The CDFI Fund will assess the likelihood of this increase during the Application review process.
| • An award will not be made to any Applicant that has not demonstrated in the relevant NCUA form 5300 Call Reports that it has increased shares and/or total loans outstanding by at least 25 percent of the requested FA award amount between December 31, 2016, and December 31, 2017.
| • The matching funds are not In-Hand until the Recipient has increased its member and/or non-member shares, deposits and/or total loans outstanding by the amount of retained earnings since inception used as matching funds within the time period specified.
| • If option (iii) is used for Insured Depository Institutions or Depository Institution Holding Companies, the Applicant or its Subsidiary Insured Depository Institution (in the case of a Depository Institution Holding Company) must increase deposits and/or total loans outstanding by an amount equal to the amount of retained earnings committed as matching funds. Depository Institution Holding Company Applicants must use the call reports of the CDFI Subsidiary Insured Depository Institution that the requested FA award will support.
| • This increase will be measured on a quarterly basis from March 31, 2018; must occur by the end of Year 1 of the Recipient's Performance Period, as set forth in its Assistance Agreement; and will be based on amounts reported in the Bank Call Report.
| • The CDFI Fund will assess the likelihood of this increase during the Application review process.
| • An award will not be made to any Applicant that has not demonstrated in the relevant call reports that it has increased deposits and/or total loans outstanding by at least 25 percent of the requested FA award amount between December 31, 2016, and December 31, 2017.
| • The matching funds are not In-Hand until the Recipient has increased its deposits and/or total loans outstanding by the amount of retained earnings since inception used as matching funds within the time period specified.
| • All regulated Applicants utilizing the part (iii) Since Inception rule should refer to the Retained Earnings Guidance included in the Matching Funds Breakout Table Excel Workbook found on the CDFI Fund's website.

IV. Application and Submission Information

A. Address To Request an Application Package: Application materials can be found on the CDFI Fund's website at www.cdfifund.gov/native. Applicants may request a paper version of any Application material by contacting the CDFI Fund Help Desk at cdfihelp@cdfi.treas.gov.

B. Content and Form of Application Submission: All Applications must be prepared using the English language, and calculations must be made in U.S. dollars. The following table lists the required Application documents for the FY 2018 Funding Round. The CDFI Fund reserves the right to request and review other pertinent or public information that has not been specifically requested in this NOFA or the Application. Information submitted by the Applicant that the CDFI Fund has not specifically requested will not be reviewed or considered as part of the Application. Information submitted must accurately reflect the Applicant's activities. Financial data, portfolio, and activity information provided in the Application should only include the Applicant's activities.

Table 10—Required Application Documents
Application documents | Applicant type | Submission format
Active AMIS Account | All Applicants | AMIS.
SF-424 | All Applicants | Fillable PDF in Grants.gov.
NACA Program Application Components: | All Applicants | AMIS.
• Funding Application Detail
• Data, Charts, and Narrative sections as listed in AMIS and outlined in Application materials
DF-FA Application Components: | DF-FA Applicants | AMIS.
• Requested Disability Funds—Financial Assistance Amount Narratives * | —Must submit narrative document to FA Application in AMIS
* DF-FA Narrative will be provided after FA Application submission if DF-FA funding request is specified in AMIS
HFFI-FA Application Components: | HFFI-FA Applicants | AMIS.
• Funding Application Detail | —Must create new funding application
• Narratives
ATTACHMENTS TO THE APPLICATION:
Add to “Related Attachments” related list in application
Key Staff Resumes | All Applicants | PDF or Word document in AMIS.
Organizational Chart | All Applicants | PDF in AMIS.
Audited Financial Statements For the Applicant's Three Most Recent Historic Fiscal Years | FA Applicants: Loan funds, venture capital funds, and other non-Insured Depository Institutions | PDF in AMIS.
Management Letters for the Applicant's Most Recent Historic Fiscal Year | FA Applicants: Loan funds, venture capital funds, and other non-Insured Depository Institutions, TA Applicants: If available | PDF in AMIS.
The Management Letter is prepared by the Applicant's auditor and is a communication on internal control over financial reporting, compliance, and other matters. The Management Letter contains the auditor's findings regarding the Applicant's accounting policies and procedures, internal controls, and operating policies, including any material weaknesses, significant deficiencies, and other matters identified during auditing. The Management Letter may include suggestions for improving on identified weaknesses and deficiencies and/or best practice suggestions for items that may not be considered to be weaknesses or deficiencies. The Management Letter may also include items that are not required to be disclosed in the annual Audited Financial Statements. The Management Letter is distinct from the auditor's Opinion Letter, which is required by Generally Accepted Accounting Principles (GAAP). Management Letters are not required by GAAP, and are sometimes provided by the auditor as a separate letter from the Audit itself.
Statement(s) in Lieu of Management Letter for Applicant's Most Recent Historic Fiscal Year Issued from Board Treasurer or other Board member using template provided in application materials (required only if Management Letters are not available for Audited Financial Statements) | FA Applicants: Loan funds and other non-Insured Depository Institutions, TA Applicants: If available | PDF in AMIS.
Unaudited Financial Statements for Applicant's Three Most Recent Historic Years (if Audited Financial Statements are not available) | TA Applicants: Loan funds, venture capital funds, and other non-Insured Depository Institutions | PDF in AMIS.
Current Year to Date—December 31, 2017 Unaudited Financial Statements | FA and TA Applicants: Loan funds, venture capital funds, and other non-Insured Depository Institutions | PDF in AMIS.
Community Partnership Agreement | FA Applicants, if applicable | PDF or Word document in AMIS.
Matching Funds Breakout Table Excel Workbook | CDFI Program FA Core Applicants (the CDFI Fund reserves the right to request matching funds from HFFI-FA and NACA FA applicants if matching funds are not waived in the final FY 2018 NACA Program appropriation) | Excel in AMIS.
Call Reports for each fiscal year reported in the Retained Earnings Calculator | CDFI Program FA Core Applicants: Insured Depository Institutions that are using Retained Earnings as matching funds only (the CDFI Fund reserves the right to request this information from HFFI-FA and NACA FA applicants if matching funds are not waived in the final FY 2018 NACA Program appropriation) | PDF in AMIS.
Equity Investment Matching Funds Documentation | CDFI Program FA Core Applicants: For-profit CDFIs that are using an Equity Investment(s) as matching funds only (the CDFI Fund reserves the right to request this information from HFFI-FA and NACA FA applicants if matching funds are not waived in the final FY 2018 NACA Program appropriation) | PDF or Word document in AMIS.

C. Application Submission: The CDFI Fund has a two-step process that requires the submission of application documents on separate deadlines and locations. The SF-424 must be submitted through Grants.gov and all other application documents through the AMIS portal. The CDFI Fund will not accept Applications via email, mail, facsimile, or other forms of communication, except in extremely rare circumstances that have been pre-approved by the CDFI Fund. Applicants are only required to submit the OMB SF-424, Application for Federal Assistance form in Grants.gov. All other application information (listed in Table 10) will be submitted through AMIS. The deadline for submitting the SF-424 is listed in Tables 1 and 11.

All Applicants must register in the Grants.gov system to successfully submit the SF-424. The Grants.gov registration process can take 30 days or longer to complete and the CDFI Fund strongly encourages Applicants to start the Grants.gov registration process as soon as possible (refer to the following link: http://www.grants.gov/web/grants/register.html). Since the Grants.gov registration process requires Applicants to have DUNS and EIN numbers, Applicants without these required numbers should allow for additional time to complete the Grants.gov registration process. The CDFI Fund will not extend the application deadline to any Applicant that started the Grants.gov registration process but did not complete it by the deadline. An Applicant that has previously registered with Grants.gov must verify that its registration is current and active. Applicants should contact Grants.gov directly with questions related to the registration or submission process as the CDFI Fund does not maintain the Grants.gov system. Each Application must be signed by a designated Authorized Representative in AMIS before it can be submitted. Applicants must ensure that an Authorized Representative is authorized to sign legal documents on behalf of the organization. Consultants working on behalf of the organization cannot be designated as Authorized Representatives. Only a designated Authorized Representative or Application Point of Contact, included in the Application, may submit the Application in AMIS. If an Authorized Representative or Application Point of Contact does not submit the application, the application will be deemed ineligible.

D. Dun & Bradstreet Universal Numbering System (DUNS): Pursuant to the Uniform Requirements, each Applicant must provide as part of its Application submission, a Dun and Bradstreet Universal Numbering System (DUNS) number. Applicants without a DUNS number will not be able to register and submit an Application in the Grants.gov system. Allow sufficient time for Dun & Bradstreet to respond to inquiries and/or requests for DUNS numbers.

E. System for Award Management (SAM): Any entity applying for Federal grants or other forms of Federal financial assistance through Grants.gov must be registered in SAM before submitting its Application. Registration in SAM is required as part of the Grants.gov registration process. The SAM registration process can take two weeks or longer to complete. Applicants without DUNS and/or EIN numbers should allow for additional time as an Applicant cannot register in SAM without those required numbers. Applicants that have previously completed the SAM registration process must verify that their SAM accounts are current and active. Each Applicant must continue to maintain an active SAM registration with current information at all times during which it has an active Federal award or an Application under consideration by a Federal awarding agency. The CDFI Fund will not consider any Applicant that fails to properly register or activate its SAM account and, as a result, is unable to submit the SF-424 in Grants.gov or Application in AMIS by the applicable Application deadlines. These restrictions also apply to organizations that have not yet received a DUNS or EIN number. Applicants must contact SAM directly with questions related to registration or SAM account changes as the CDFI Fund does not maintain this system and has no ability to make changes or correct errors of any kind. For more information about SAM, visit https://www.sam.gov.

Table 11—Grants.gov Registration Timeline Summary
Step | Agency | Estimated minimum time to complete
Obtain a DUNS number | Dun & Bradstreet | One (1) Week .*
Obtain an EIN Number | Internal Revenue Service (IRS) | Two (2) Weeks .*
Register in SAM.gov | System for Award Management (SAM.gov) | Two (2) Weeks .*
Register in Grants.gov | Grants.gov | One (1) Week .* *
* Applicants are advised that the stated durations are estimates only and represent minimum timeframes. Actual timeframes may take longer. The CDFI Fund will not consider any Applicant that fails to properly register or activate its SAM account, has not yet received a DUNS or EIN number, and/or fails to properly register in Grants.gov.
* * This estimate assumes an Applicant has a DUNS number, an EIN number, and is already registered in SAM.gov.

F. Submission Dates and Times:

1. Submission Deadlines: The following table provides the critical deadlines for the FY 2018 Funding Round.

Table 12—FY 2018 Funding Round Critical Deadlines for Applicants
Description | Deadline | Time (ET) | Submission method
Last day to contact Certification, Compliance Monitoring and Evaluation (CCME) staff regarding CDFI Certification | February 28, 2018 | 11:59 p.m. | Service Request via AMIS.
CDFI certification applications | March 2, 2018 | 11:59 p.m. | Electronically via AMIS
Create AMIS Account (New Applicants) | March 2, 2018 |  | AMIS.
SF424 (Application for Federal Assistance) | March 2, 2018 | 11:59 p.m. | Electronically via Grants.gov.
Last day to contact NACA Program staff | April 2, 2018 | 5:00 p.m. | Service Request via AMIS Or CDFI Fund Helpdesk: 202-653-0421.
NACA Program Application for FA or TA | April 4, 2018 | 11:59 p.m. | Electronically via AMIS.

2. Confirmation of Application Submission in Grants.gov and AMIS: Applicants are required to submit the OMB SF-424, Application for Federal Assistance through the Grants.gov system, under the NACA Program Funding Opportunity Number. All other required application materials must be submitted through the AMIS website. Application materials submitted through both systems are due by the applicable deadlines. Applicants must submit the SF-424 on an earlier deadline from the other required application materials in AMIS. If the SF-424 is not successfully accepted by Grants.gov by the deadline, the CDFI Fund will not review any of the material submitted in AMIS, and the Application will be deemed ineligible.

a. Grants.gov Submission Information: Each Applicant will receive an email from Grants.gov immediately after submitting the SF-424 confirming that the submission has entered the Grants.gov system. This email will contain a tracking number for the submitted SF-424. Within 48 hours, the Applicant will receive a second email, which will indicate if the submitted SF-424 was either successfully validated or rejected with errors. However, Applicants should not rely on the email notification from Grants.gov to confirm that their SF-424 was validated. Applicants are strongly encouraged to use the tracking number provided in the first email to closely monitor the status of their SF-424 by contacting the helpdesk at Grants.gov directly. The Application material submitted in AMIS is not officially accepted by the CDFI Fund until Grants.gov has validated the SF-424.

b. AMIS Submission Information: AMIS is a web-based portal where Applicants will directly enter their application information and add the required attachments listed in Table 10. AMIS will verify that the Applicant provided the minimum information required to submit an Application. Applicants are responsible for the quality and accuracy of the information and attachments included in the Application submitted in AMIS. The CDFI Fund strongly encourages the Applicant to allow sufficient time to confirm the Application content, review the material submitted, and remedy any issues prior to the Application deadline. Each Application must be signed by an Authorized Representative in AMIS before it can be submitted. Applicants must ensure that an Authorized Representative is authorized to sign legal documents on behalf of the organization. Consultants working on behalf of the organization may not be designated as Authorized Representatives. Only an Authorized Representative or an Application Point of Contact can submit the Application. If an Authorized Representative or Application Point of Contact does not submit the application, the application will be deemed ineligible. Applicants can only submit one Application. Upon submission, the Application will be locked and cannot be resubmitted, edited, or modified in any way. The CDFI Fund will not unlock or allow multiple Application submissions.

3. Late Submission: The CDFI Fund will not accept an Application if the SF-424 is not submitted and accepted by Grants.gov by the deadline. Additionally, the CDFI Fund will not accept an Application if it is not signed by an Authorized Representative and submitted in AMIS by the deadline. In either case, the CDFI Fund will not review any material submitted, and the Application will be deemed ineligible.

However, in cases where a Federal government administrative or technological error directly resulted in a late submission of the SF-424 or the Application, Applicants are provided two opportunities to submit a written request for acceptance of late submissions. The CDFI Fund does not consider a delay in any Federal government process to constitute a Federal government administrative or technological error. The CDFI Fund will not consider a late submission of the SF-424 or the Application that was a direct result of a delay in a Federal Government process, unless such delay was the result of a Federal government administrative or technological error.

a. SF-424 Late Submission: In cases where a Federal government administrative or technological error directly resulted in a late submission of the SF-424, the Applicant must submit a written request for acceptance of late SF-424 submission and include documentation of the error no later than two business days after the SF-424 deadline. The CDFI Fund will not respond to request for acceptance of late SF-424 submissions after that time period. Applicants must submit late SF-424 submission requests to the CDFI Fund via an AMIS service request to the CDFI Program with a subject line of “Late SF-424 Submission Request.”

b. Application Late Submission: In cases where a Federal government administrative or technological error directly resulted in a late submission of the Application in AMIS, the Applicant must submit a written request for acceptance of late Application submission and include documentation of the error no later than two business days after the Application deadline. The CDFI Fund will not respond to request for acceptance of late Application submissions after that time period. Applicants must submit late Application submission requests to the CDFI Fund via an AMIS service request to the NACA Program with a subject line of “Late Application Submission Request.”

G. Funding Restrictions: FA, PPC-FA, DF-FA, HFFI-FA and TA awards are limited by the following:

1. FA awards:

a. A Recipient shall use FA funds only for the eligible activities described in Section II.(C)(1) of this NOFA and its Assistance Agreement.

b. A Recipient may not distribute FA funds to an Affiliate, Subsidiary, or any other entity, without the CDFI Fund's prior written approval.

c. FA funds shall only be paid to the Recipient.

d. The CDFI Fund, in its sole discretion, may pay FA funds in amounts, or under terms and conditions, which are different from those requested by an Applicant.

e. The Recipient must comply, as applicable, with the Buy American Act of 1933, 41 U.S.C. 8301-8303, with respect to any Direct Costs.

2. PPC-FA awards:

a. A Recipient shall use PPC-FA funds only for the eligible activities described in Section II.(C)(5) of this NOFA and its Assistance Agreement.

b. A Recipient may not distribute PPC-FA funds to an Affiliate, Subsidiary, or any other entity, without the CDFI Fund's prior written approval.

c. PPC-FA funds shall only be paid to the Recipient.

d. The CDFI Fund, in its sole discretion, may pay PPC-FA funds in amounts, or under terms and conditions, which are different from those requested by an Applicant.

e. The Recipient must comply, as applicable, with the Buy American Act of 1933, 41 U.S.C. 8301-8303, with respect to any Direct Costs.

3. DF-FA awards:

a. A Recipient shall use DF-FA funds only for the eligible activities described in Section II.(C)(2) of this NOFA and its Assistance Agreement.

b. A Recipient may not distribute DF-FA funds to an Affiliate, Subsidiary, or any other entity, without the CDFI Fund's prior written approval.

c. DF-FA funds shall only be paid to the Recipient.

d. The CDFI Fund, in its sole discretion, may pay DF-FA funds in amounts, or under terms and conditions, which are different from those requested by an Applicant.

e. The Recipient must comply, as applicable, with the Buy American Act of 1933, 41 U.S.C. 8301-8303, with respect to any Direct Costs.

2. HFFI-FA awards:

a. A Recipient shall use HFFI-FA funds only for the eligible activities described in Section II.(C)(4) of this NOFA and its Assistance Agreement.

b. A Recipient may not distribute HFFI-FA funds to an Affiliate, Subsidiary, or any other entity, without the CDFI Fund's prior written approval.

c. HFFI-FA funds shall only be paid to the Recipient.

d. The CDFI Fund, in its sole discretion, may pay HFFI-FA funds in amounts, or under terms and conditions, which are different from those requested by an Applicant.

e. The Recipient must comply, as applicable, with the Buy American Act of 1933, 41 U.S.C. 8301-8303, with respect to any Direct Costs.

3. TA grants:

a. A Recipient shall use TA funds only for the eligible activities described in Section II.(C)(3) of this NOFA and its Assistance Agreement.

b. A Sponsoring Entity award Recipient must create, as a legal entity, the Emerging CDFI no later than the end of the first year of the period of performance, whereupon the Sponsoring Entity must request the CDFI Fund to amend the Assistance Agreement and add the Emerging CDFI as a co-Recipient thereto, with the Sponsoring Entity, thereby transferring any and all remaining balances and/or assets derived from the TA award to the Emerging CDFI.

c. A Recipient may not distribute TA funds to an Affiliate, Subsidiary or any other entity, without the CDFI Fund's prior written consent.

d. TA funds shall only be paid to the Recipient.

e. The CDFI Fund, in its sole discretion, may pay TA funds in amounts, or under terms and conditions, which are different from those requested by an Applicant.

f. The Recipient must comply, as applicable, with the Buy American Act of 1933, 41 U.S.C. 8301-8303, with respect to any Direct Costs.

V. Application Review Information

A. Criteria: If the Applicant has submitted an eligible Application, the CDFI Fund will conduct a substantive review in accordance with the criteria and procedures described in the Regulations, this NOFA, the Application guidance, and the Uniform Requirements. The CDFI Fund reserves the right to contact the Applicant by telephone, email, or mail for the purpose of clarifying or confirming Application information. If contacted, the Applicant must respond within the time period communicated by the CDFI Fund or risk that its Application will be rejected. The CDFI Fund will review the FA, DF-FA, PPC-FA, HFFI-FA, and TA Applications according the below process.

1. Financial Assistance (FA) Application Scoring, Award Selection, Review, and Selection Process: The CDFI Fund will evaluate each Application using a five step review process illustrated in the sections below. Applicants that meet the minimum criteria will advance to the next step in the review process. Applicants applying as a Community Partnership must describe partnership in the Application pursuant to the requirements set forth in Table 8 and will be evaluated in accordance with the review process described below.

a. Step 1: Eligibility Review: The CDFI Fund will evaluate each Application to determine its eligibility status per Section III. Eligibility Information of this NOFA.

b. Step 2: Financial Analysis and Compliance Evaluation: Step 2 contains two main components: Financial health analysis and compliance risk evaluation. The CDFI Fund will evaluate the financial health and viability of each Application using financial information provided by the Applicant. The CDFI Fund will also evaluate the compliance risk of each Application using information provided in the Application.

For the financial health analysis, each Application will receive a Total Financial Composite Score on a scale of one (1) to five (5), with one (1) being the highest rating. The Total Financial Composite Score is based on the analysis of twenty-four (24) financial indicators. Applications will be grouped based on the Total Financial Composite Score. Applicants must receive a Total Financial Composite Score of one (1), two (2), or three (3) to advance to Step 3. Applicants that receive an initial Total Financial Composite Score of four (4) or five (5) will be re-evaluated and re-scored by CDFI Fund staff. If the Total Financial Composite Score remains four (4) or five (5) after CDFI Fund staff review, the Applicant will not advance to Step 3.

For the compliance analysis, the CDFI Fund will evaluate the compliance risk of each Application using information provided in the Application. Each Application will receive a Total Compliance Composite Score on a scale of one (1) to five (5), with one (1) being the highest rating. Applicants must receive a Total Compliance Composite Score of one (1), two (2), or three (3) to advance to Step 3. Applicants that receive an initial Total Compliance Composite Score of four (4) or five (5) will be re-evaluated and re-scored by CDFI Fund Staff. If the Total Compliance Composite Score remains four (4) or five (5) after CDFI Staff review, the Applicant will not advance to Step 3.

c. Step 3: Business Plan Review: Applicants that proceed to Step 3 will be evaluated on the soundness of each Applicant's comprehensive business plan. Two external non-CDFI Fund Reviewers will conduct the Step 3 evaluation. Reviewers will evaluate the Application sections listed in Table 13. All Applications will be reviewed in accordance with standard reviewer evaluation materials for the business plan review. Applications will be ranked based on Total Business Plan Scores, in descending order. In order to advance to Step 4, Applicants must receive a Total Business Plan Score that is either (1) equal to receiving a point score equivalent to a “Good” out of a ranking scale in descending order of Excellent, Good, Fair, Limited or Poor, in each section listed in Table 13 or (2) within the top 70 percent of the NACA FA applicant pool, whichever is greater. In the case of tied Total Business Plan Scores that would prevent an Applicant from moving to Step 4, all Applicants with the same score will progress to Step 4.

Table 13—Step 3: FA Business Plan Review Scoring Criteria
FA application sections | Possible score | Score needed to advance
Executive Summary | Not Scored | N/A.
Business Strategy | 12 | N/A.
Market and Competitive Analysis | 7 | N/A.
Products and Services | 12 | N/A.
Management and Track Record | 12 | N/A.
Growth and Projections | 7 | N/A.
Total Business Plan Score | 50 | NACA FA Applicants: Within Top 70 percent of all NACA Applicant Step 3 Scores.

d. Step 4: Policy Objective Review: The CDFI Fund internal reviewers will evaluate each Application to determine its ability to meet policy objectives of the CDFI Fund authorizing statute. The policy objectives considered in this evaluation are listed in Table 14 below. The CDFI Fund also conducts a due diligence review for Applications that includes an analysis of programmatic risk factors including, but not limited to: History of performance in managing Federal awards (including timeliness of reporting and compliance); reports and findings from audits; and the Applicant's ability to effectively implement Federal requirements, which could impact the Total Policy Objective Review Score. Each Applicant will be evaluated in each of the categories, which will result in a Total Policy Objective Review Composite Score on a scale of one (1) to five (5), with one (1) being the highest score. Applicants are then grouped according to Total Policy Objective Review Scores.

Table 14—Step 4: FA Policy Review Scoring Criteria
Section | Possible scores | High score | Score needed to advance
Economic Distress | 1, 2, 3, 4, or 5 | 1 | N/A.
Economic Opportunities | 1, 2, 3, 4, or 5 | 1 | N/A.
Partnerships | 1, 2, 3, 4, or 5 | 1 | N/A.
Total Policy Objective Review Composite Score | 1, 2, 3, 4, or 5 | 1 | All Scores Advance.

e. Step 5: Award Amount Determination: The CDFI Fund determines an award amount for each Application based on the Step 4 Total Policy Objective Review Score, the Applicant's request amount, and on certain variables, including but not limited to, an Applicant's deployment track record, minimum award size, and funding availability. Award amounts may be reduced from the requested award amount as a result of this analysis. Lastly, the CDFI Fund may consider the geographic diversity of Applicants when making its funding decisions.

2. Healthy Food Financing Initiative-FA (HFFI-FA) Application Scoring, Award Selection, Review, and Selection Process: Two external non-CDFI Fund reviewers will evaluate each HFFI-FA Application associated with a FA application that progresses to Step 4 of the FA Application review process. Reviewers will evaluate the Application sections listed in Table 15 and assign a Total HFFI-FA Score up to 25 points. All Applications will be reviewed in accordance with standard reviewer evaluation materials. Applications will be ranked based on total scores, in descending order. Applicants that fail to receive an FA award will not be considered for a HFFI-FA award.

The CDFI Fund conducts additional levels of due diligence for Applications that are in scoring contention for an HFFI-FA award. This due diligence includes an analysis of programmatic and financial risk factors including, but not limited to, financial stability, quality of management systems and ability to meet award management standards, history of performance in managing Federal awards (including timeliness of reporting and compliance), reports and findings from audits, and the Applicant's ability to effectively implement Federal requirements. Award amounts may be reduced from the requested award amount as a result of this analysis. The CDFI Fund may reduce awards sizes from requested amounts based on certain variables, including an Applicant's loan disbursement activity, total portfolio outstanding, and similar factors. Lastly, the CDFI Fund may consider the geographic diversity of Applicants when making its funding decisions.

Table 15—Step 3 HFFI-FA Application Scoring Criteria
HFFI-FA narrative sections | HFFI-FA Applicants (points)
HFFI Target Market Profile | 4
Healthy Food Financial Products | 5
Healthy Food Development Services | 2
Projected HFFI-FA Activities | 7
HFFI Track Record, Management Capacity for Providing Healthy Food Financing, Healthy Food Financing Outcomes | 7
Total HFFI-FA Score | 25

3. Persistent Poverty Counties—Financial Assistance (PPC-FA) Application Scoring, Award Selection, Review, and Selection Process: Application requests for PPC-FA awards are not scored. A CDFI Fund internal reviewer will evaluate the PPC-FA request of each associated FA Applicant that has advanced to the Step 4 review process. PPC-FA award amounts will be determined based on the total number of eligible Applicants and funding availability, the Applicant's requested amount, and on certain variables, including but not limited to, an Applicant's deployment track record, historical track record of deployment in Persistent Poverty Counties for Applicants that have received prior awards from the CDFI Fund, minimum award size, and funding availability.

4. Disability Funds-Financial Assistance (DF-FA) Application Scoring, Award Selection, Review, and Selection Process: A CDFI Fund internal reviewer will evaluate each DF-FA Application associated with a FA application progresses to Step 4 of the FA Application review process. The reviewer will evaluate the Application and assign a Total DF-FA Score on a scale of one (1) to five (5), with one (1) being the highest score. Applicants are then grouped according to Total DF-FA Score. All Applications will be reviewed in accordance with standard reviewer evaluation materials. Applicants that fail to receive an FA award will not be considered for a DF-FA award. Award amounts will be determined on the basis of the Total DF-FA Score, the Applicant's requested amount, and on certain variables, including but not limited to, an Applicant's deployment track record, minimum award size, and funding availability. The CDFI Fund will make awards to the highest scoring applicants first. Award amounts may be reduced from the requested award amount as a result of this analysis. The DF-FA award is evaluated independently from the FA award and will not affect the FA award evaluation or size.

Table 16—Step 3 DF-FA Application Scoring Criteria
Section | Possible scores | High score
DF-FA Narrative Questions | 1, 2, 3, 4, or 5 | 1
Total DF-FA Score | 1, 2, 3, 4, or 5 | 1

5. Technical Assistance (TA) Application Scoring, Award Selection, Review, and Selection Process: The CDFI Fund will evaluate each Application to determine its eligibility pursuant to Section III. Eligibility Information of this NOFA. If the Application meets the eligibility criteria, the CDFI Fund will evaluate each TA Application using standard scoring criteria in the Business Plan Review (Table 17). An Applicant must receive a minimum Total TA Business Plan Score of 50 points for the TA components in order to be considered for an award. Sponsoring Entity, Emerging CDFI or Certifiable CDFI Applicants must achieve a minimum score of 35 points in Section I to be considered for an award and to be reviewed in Section II.

An Applicant that is a Certified CDFI will be evaluated on the demonstrated need for TA funding to build the CDFI's capacity, further the Applicant's strategic goals, and achieve impact within the Applicant's Target Market. An Applicant that is an Emerging CDFI or Certifiable CDFI will be evaluated on the Applicant's demonstrated capability and plan to achieve CDFI certification within three years, or if a prior awardee, the certification performance goal and measure stated in its prior Assistance Agreement. An Applicant that is an Emerging CDFI and Certifiable CDFI will also be evaluated on its demonstrated need for TA funding to build the CDFI's capacity and further its strategic goals. An Applicant that is a Sponsoring Entity will be rated on the Applicant's demonstrated capability to create a separate legal entity within one year that will achieve CDFI certification within four years. An Applicant that is a Sponsoring Entity will also be rated on its demonstrated need for TA funding to build the CDFI's capacity and further its strategic goals.

The CDFI Fund will score each part of the TA Business Plan Review as indicated in Table 17.

Table 17—TA Business Plan Review Scoring Criteria
TA application sections | Emerging CDFI or certifiable CDFI (points) | Certified CDFI (points)
Section I:
Primary Mission | 15 | N/A
Financing Entity | 15 | N/A
Target Market | 15 | N/A
Accountability | 15 | N/A
Development Services | 15 | N/A
Section II:
Organization Overview | 5 | 20
Management and Staff | 5 | 20
Community Coordination | 5 | 20
Financial Performance | 5 | 20
Organizational Impact | 5 | 20
Total TA Business Plan Score | 100 | 100

Each TA Application will be evaluated by one internal CDFI Fund reviewer. Internal reviewers must complete the CDFI Fund's conflict of interest process. The CDFI Fund's application conflict of interest policy is located on the CDFI Fund's website. All Applications will be reviewed in accordance with CDFI Fund standard reviewer evaluation materials for the Business Plan Review. Applications will be ranked based on Total TA Business Plan Score, in descending order. In the case of tied scores that would prohibit the Application from progressing to the next level of review, Certified Applicants will be ranked first according to each Organization Overview score and Emerging CDFI, Certifiable CDFI, and Sponsoring Entity Applicants will be ranked first according to the total Section I score.

The CDFI Fund conducts additional levels of due diligence for Applications that are in scoring contention for an award. This due diligence includes an analysis of programmatic and financial risk factors including, but not limited to, financial stability, history of performance in managing Federal awards (including timeliness of reporting and compliance), reports and findings from audits, and the Applicant's ability to effectively implement Federal requirements. The CDFI Fund will also evaluate the Applicant's ability to meet certification criteria of being a legal entity and a non-government entity. Award amounts may be reduced as a result of this analysis in addition to consideration of the eligibility of an Applicant's funding request and similar factors. Lastly, the CDFI Fund may consider the geographic diversity of Applicants when making its funding decisions.

6. Insured Depository Institutions: The CDFI Fund will consider safety and soundness information from the Appropriate Federal or State Banking Agency. If the Applicant is a CDFI Depository Institution Holding Company, the CDFI Fund will consider information provided by the Appropriate Federal or State Banking Agencies about both the CDFI Depository Institution Holding Company and the Subsidiary CDFI Certified Insured Depository Institution that will expend and carry out the award. If the Appropriate Federal or State Agency identifies safety and soundness concerns, the CDFI Fund will assess whether the concerns cause or will cause the Applicant to be incapable of undertaking the activities for which funding has been requested.

7. Non-Regulated Institutions: In accordance with the NACA Program's authorizing statute and regulations, the CDFI Fund must ensure, to the maximum extent practicable, that recipients which are non-regulated CDFIs are financially and managerially sound, and maintain appropriate internal controls (12 U.S.C. 4707(f)(1)(A) and 12 CFR 1805.800(b)). Further, the CDFI Fund must determine that an Applicant's capacity to operate as a CDFI and its continued viability will not be dependent upon assistance from the CDFI Fund (12 U.S.C. 4704(b)(2)(A)). If it is determined the Applicant is incapable of meeting these requirements, the CDFI Fund reserves the right to deem the Applicant ineligible or terminate the award.

B. Anticipated Award Announcement: The CDFI Fund anticipates making the NACA Program award announcements after September 10, 2018 and before September 30, 2018.

C. Application Rejection: The CDFI Fund reserves the right to reject an Application if information (including administrative errors) comes to the CDFI Fund's attention that: Adversely affects an Applicant's eligibility for an award; adversely affects the Recipient's certification as a CDFI (to the extent that the award is conditional upon CDFI certification); adversely affects the CDFI Fund's evaluation or scoring of an Application; or indicates fraud or mismanagement on the Applicant's part. If the CDFI Fund determines any portion of the Application is incorrect in a material respect, the CDFI Fund reserves the right, in its sole discretion, to reject the Application. The CDFI Fund reserves the right to change its eligibility and evaluation criteria and procedures, if the CDFI Fund deems it appropriate. If the changes materially affect the CDFI Fund's award decisions, the CDFI Fund will provide information about the changes through its website. The CDFI Fund's award decisions are final, and there is no right to appeal the decisions.

D. External Non-CDFI Fund Reviewers: All external non-CDFI Fund reviewers are selected based on criteria that includes a professional background in community and economic development finance, and experience reviewing the financial statements of all CDFI institution types. Reviewers must complete the CDFI Fund's conflict of interest process and be approved by the CDFI Fund. The CDFI Fund's application reader conflict of interest policy is located on the CDFI Fund's website.

VI. Federal Award Administration Information

A. Award Notification: Each successful Applicant will receive an email “notice of award” notification from the CDFI Fund stating that its Application has been approved for an award. Each Applicant not selected for an award will receive an email stating that a debriefing notice has been provided in its AMIS account.

B. Assistance Agreement: Each Applicant selected to receive an award must enter into an Assistance Agreement with the CDFI Fund in order to receive a payment(s). The Assistance Agreement will set forth the award's terms and conditions, including but not be limited to the: (i) Award amount; (ii) award type; (iii) award uses; (iv) eligible use of funds; (v) performance goals and measures; and (vi) reporting requirements. FA Assistance Agreements have three-year periods of performance. TA Assistance Agreements have two-year periods of performance for Certified CDFIs, three-year periods of performance for Emerging CDFIs or Certifiable CDFIs, and four-year periods of performance for Sponsoring Entity TA Recipients. Upon creation of the Emerging CDFI, the Sponsoring Entity will request the CDFI Fund to amend the Assistance Agreement and add the Emerging CDFI as a party thereto; the Emerging CDFI, as co-awardee, must comply with all of the requirements in the Assistance Agreement, including all program goals and measures.

1. Certificate of Good Standing: All FA and TA Recipients that are not Insured Depository Institutions will be required to provide the CDFI Fund with a certificate of good standing from the secretary of state for the Recipient's jurisdiction of formation prior to closing. This certificate can often be acquired online on the secretary of state website for the Recipient's jurisdiction of formation and must generally be dated within 180 days prior to the date the Recipient executes the Assistance Agreement. Due to potential backlogs in state government offices, Applicants are advised to submit requests for certificates of good standing no later than 60 days after they submit their Applications.

2. Closing: Pursuant to the Assistance Agreement, there will be an initial closing at which point the Assistance Agreement and related documents will be properly executed and delivered, and an initial payment of FA or TA may be made. FA Recipients that are subject to the matching funds requirement will not receive a payment until 100 percent of their matching funds are In-Hand. The first payment is the estimated amount of award that the Recipient states in its Application that it will use for eligible FA or TA activities in the first 12 months after the award. The CDFI Fund reserves the right to increase the first payment amount on any award to ensure that any subsequent payments are greater than $25,000 for FA and $5,000 for TA awards.

The CDFI Fund will minimize the time between the Recipient incurring costs for eligible activities and award payment in accordance with the Uniform Requirements. The advanced payments for eligible activities will occur no more than one year in advance of the Recipient incurring costs for the eligible activities. Following the initial closing, there may be subsequent closings involving additional award payments. Any documentation in addition to the Assistant Agreement that is connected with such subsequent closings and payments shall be properly executed and timely delivered by the Recipient to the CDFI Fund.

3. Requirements Prior to Entering into an Assistance Agreement: If, prior to entering into an Assistance Agreement, information (including administrative errors) comes to the CDFI Fund's attention that: Adversely affects the Recipient's eligibility for an award; adversely affects the Recipient's certification as a CDFI (to the extent that the award is conditional upon CDFI certification); adversely affects the CDFI Fund's evaluation of the Application; indicates that the Recipient is not in compliance with any requirement listed the Uniform Requirements; or indicates fraud or mismanagement on the Recipient's part, the CDFI Fund may, in its discretion and without advance notice to the Recipient, terminate the award or take such other actions as it deems appropriate. The CDFI Fund reserves the right, in its sole discretion, to rescind an award if the Recipient fails to return the Assistance Agreement, signed by the authorized representative of the Recipient, and/or provide the CDFI Fund with any other requested documentation, within the CDFI Fund's deadlines.

In addition, the CDFI Fund reserves the right, in its sole discretion, to terminate and rescind the Assistance Agreement and the award made under this NOFA pending the criteria described in the following table:

Table 18—Requirements Prior To Executing an Assistance Agreement
Requirement | Criteria
Failure to meet reporting requirements | • If a Recipient received a prior award under any CDFI Fund program and is not current with the reporting requirements of the previously executed agreement(s), the CDFI Fund may delay entering into an Assistance Agreement or disbursing an award until reporting requirements are met.
| • If such a Recipient is unable to meet the requirement within the timeframe specified, the CDFI Fund may terminate and rescind the Assistance Agreement and the award made under this NOFA.
| • The automated systems the CDFI Fund uses only acknowledge a report's receipt and it not a determination of meeting reporting requirements.
Failure to maintain CDFI Certification | • An FA Recipient must be a Certified CDFI prior to entering into an Assistance Agreement.
| • If an FA Recipient fails to maintain CDFI Certification, the CDFI Fund will terminate and rescind the Assistance Agreement and the award made under this NOFA.
Pending resolution of noncompliance | • The CDFI Fund will delay entering into an Assistance Agreement with a Recipient that has pending noncompliance issues with any of its previously executed CDFI award agreement(s), if the CDFI Fund has not yet made a final compliance determination.
| • If the Recipient is unable to satisfactorily resolve the compliance issues, the CDFI Fund may terminate and rescind the Assistance Agreement and the award made under this NOFA.
Noncompliance status | • If, at any time prior to entering into an Assistance Agreement, the CDFI Fund determines that a Recipient is noncompliant with any previously executed CDFI award agreement(s) and the CDFI Fund has provided written notification that the Recipient is ineligible to apply for or receive any future awards or allocations for a time period specified by the CDFI Fund in writing, the CDFI Fund may delay entering into an Assistance Agreement until the Recipient has cured the default by taking actions the CDFI Fund has specified within the specified timeframe. If the Recipient is unable to meet the cure requirement within the specified timeframe, the CDFI Fund may terminate and rescind the Assistance Agreement and the award made under this NOFA.
Compliance with Federal civil rights requirements | • If prior to entering into an Assistance Agreement under this NOFA, the Recipient receives a final determination, made within the last three years, in any proceeding instituted against the Recipient in, by, or before any court, governmental, or administrative body or agency, declaring that the Recipient has violated the following laws: Title VI of the Civil Rights Act of 1964, as amended (42 U.S.C.§ 2000d); Section 504 of the Rehabilitation Act of 1973 (29 U.S.C. § 794); the Age Discrimination Act of 1975, (42 U.S.C. §§ 6101-6107), and Executive Order 13166, Improving Access to Services for Persons with Limited English Proficiency, the CDFI Fund will terminate and rescind the Assistance Agreement and the award made under this NOFA.
Do Not Pay | • The Do Not Pay Business Center was developed to support Federal agencies in their efforts to reduce the number of improper payments made through programs funded by the Federal government.
| • The CDFI Fund reserves the right, in its sole discretion, to rescind an award if the Recipient is identified as an ineligible recipient in the Do Not Pay database.
Safety and soundness | • If it is determined the Recipient is, or will be, incapable of meeting its award obligations, the CDFI Fund will deem the Recipient to be ineligible, or require it to improve safety and soundness conditions prior to entering into an Assistance Agreement.

C. Reporting

1. Reporting requirements: On an annual basis for the period of performance, the CDFI Fund may collect information from each Recipient including, but not limited to, an Annual Report with the following components:

Table 19—Annual Reporting Requirements
Financial Statement Audit Report (Non-profit Recipient) | A Non-profit Recipient must submit a Financial Statement Audit (FSA) report in AMIS, along with the Recipient's statement of financial condition audited or reviewed by an independent certified public accountant, if any are prepared. Under no circumstances should this be construed as the CDFI Fund requiring the Recipient to conduct or arrange for additional audits not otherwise required under Uniform Requirements or otherwise prepared at the request of the Recipient or parties other than the CDFI Fund.
Financial Statement Audit Report (For-Profit Recipient) | For-profit Recipients must submit a Financial Statement Audit report in AMIS, along with a statement of financial condition audited or reviewed by an independent certified public accountant.
Single Audit Report (if applicable) (or similar report) | If a Recipient is required to complete a Single Audit Report, it should be submitted to the Federal Audit Clearinghouse (see 2 C.F.R. Subpart F-Audit Requirements in the Uniform Requirements) and AMIS (optional). For-profit Recipients are required to complete and submit a similar report directly to the CDFI Fund.
Institution Level Report (ILR) | The ILR is a report used to collect compliance and performance data from CDFI Fund Recipients. The ILR is submitted through AMIS and captures organizational information, financial position, lending and investing activities, community development outputs, and development services. • A CDFI Subsidiary Insured Depository Institution that receives a transfer of any portion of an FA award from a CDFI Depository Institution Holding Company Recipient must also submit an ILR.
Transaction Level Report (TLR) | The TLR is a report used to collect compliance and performance data from CDFI Fund Recipients. The TLR is submitted through AMIS and captures data on each individual loan and investment in the Recipient's portfolio. • A CDFI Subsidiary Insured Depository Institutions that receives a transfer of any portion of an FA award from a CDFI Depository Institution Holding Company Recipient must also submit a TLR. • The TLR is not required for TA Recipients.
Federal Financial Report/OMB Standard Form 425 | If the Recipient receives a TA award, it must submit the Federal Financial Report/ OMB Standard Form 425 via AMIS.
Uses of Award Report | If the Recipient receives an FA or TA award, it must submit the Uses of Award Report via AMIS.
Shareholders Report | If the Assistance is in the form of an Equity Investment, the Recipient must submit shareholder information to the CDFI Fund showing the class, series, number of shares and valuation of capital stock held or to be held by each shareholder. The Shareholder Report must be submitted for as long as the CDFI Fund is an equity holder.
Performance Progress Report | If the Recipient receives an FA or TA award, it must submit information on the status of compliance with the performance goals and measures via AMIS.

Each Recipient is responsible for the timely and complete submission of the Annual Reporting requirements. Sponsoring Entities with co-awardees will be informed of any reporting shifts at the time the Emerging CDFI is adjoined to the Agreement. The CDFI Fund reserves the right to contact the Recipient and additional entities or signatories to the Assistance Agreement to request additional information and documentation. The CDFI Fund will use such information to monitor each Recipient's compliance with the requirements in the Assistance Agreement and to assess the impact of the NACA Program. The CDFI Fund reserves the right, in its sole discretion, to modify these reporting requirements, including increasing the scope and frequency of reporting, if it determines it to be appropriate and necessary; however, such reporting requirements will be modified only after notice to Recipients.

2. Financial Management and Accounting: The CDFI Fund will require Recipients to maintain financial management and accounting systems that comply with Federal statutes, regulations, and the terms and conditions of the Federal award. These systems must be sufficient to permit the preparation of reports required by general and program specific terms and conditions, including the tracing of funds to a level of expenditures adequate to establish that such funds have been used according to the Federal statutes, regulations, and the terms and conditions of the Federal award.

The cost principles used by Recipients must be consistent with Federal cost principles and support the accumulation of costs as required by the principles, and must provide for adequate documentation to support costs charged to the NACA Program award. In addition, the CDFI Fund will require Recipients to: Maintain effective internal controls; comply with applicable statutes, regulations, and the Assistance Agreement; evaluate and monitor compliance; take action when not in compliance; and safeguard personally identifiable information.

VII. Agency Contacts

A. The CDFI Fund will respond to questions concerning this NOFA and the Application between the hours of 9:00 a.m. and 5:00 p.m. Eastern Time, starting on the date that the NOFA is published through the date listed in Table 1 and Table 12. The CDFI Fund strongly recommends applicants submit questions to the CDFI Fund via an AMIS service request to the NACA Program, Certification, Compliance Monitoring and Evaluation, or IT Help Desk. The CDFI Fund will post on its website responses to reoccurring questions received about this Application. Other information regarding the CDFI Fund and its programs may be obtained from the CDFI Fund's website at http://www.cdfifund.gov. Table 20 lists CDFI Fund contact information:

Table 20—Contact Information
Type of question | Preferred method | Telephone number (not toll free) | Email addresses
NACA Program | Service Request via AMIS | 202-653-0421, option 1 | cdfihelp@cdfi.treas.gov.
CCME | Service Request via AMIS | 202-653-0423 | ccme@cdfi.treas.gov.
AMIS—IT Help Desk | Service Request via AMIS | 202-653-0422 | AMIS@cdfi.treas.gov.

B. Information Technology Support: For IT Assistance, submit an AMIS Service Request (Record Type of “General Inquiry”). In the Service Request form, select the appropriate program, then select “AMIS Technical Problem” as the Type. People who have visual or mobility impairments that prevent them from using the CDFI Fund's website should call (202) 653-0422 for assistance (this is not a toll free number).

C. Communication with the CDFI Fund: The CDFI Fund will use the contact information in AMIS to communicate with Applicants and Recipients. It is imperative, therefore, that Applicants, Recipients, Subsidiaries, Affiliates, and signatories maintain accurate contact information in their accounts. This includes information such as contact names (especially for the Authorized Representative) listed in this NOFA's application materials, email addresses, fax and phone numbers, and office locations.

D. Civil Rights and Diversity: Any person who is eligible to receive benefits or services from the CDFI Fund or Recipients under any of its programs is entitled to those benefits or services without being subject to prohibited discrimination. The Department of the Treasury's Office of Civil Rights and Diversity enforces various Federal statutes and regulations that prohibit discrimination in financially assisted and conducted programs and activities of the CDFI Fund. If a person believes that s/he has been subjected to discrimination and/or reprisal because of membership in a protected group, s/he may file a complaint with: Associate Chief Human Capital Officer, Office of Civil Rights, and Diversity, 1500 Pennsylvania Ave. NW, Washington, DC 20220 or (202) 622-1160 (not a toll-free number).

VIII. Other Information

A. Paperwork Reduction Act: Under the Paperwork Reduction Act (44 U.S.C. chapter 35), an agency may not conduct or sponsor a collection of information, and an individual is not required to respond to a collection of information, unless it displays a valid OMB control number. If applicable, the CDFI Fund may inform Applicants that they do not need to provide certain Application information otherwise required. Pursuant to the Paperwork Reduction Act, the CDFI Program, and NACA Program Application has been assigned the following control number: 1559-0021. The DF-FA questions have been assigned the following control number: 1559-New.

B. Application Information Sessions: The CDFI Fund may conduct webinars or host information sessions for organizations that are considering applying to, or are interested in learning about, the CDFI Fund's programs. For further information, visit the CDFI Fund's website at http://www.cdfifund.gov.

Authority: 2 U.S.C. 4701, et seq.; 12 CFR parts 1805 and 1815; 2 CFR part 200.

Mary Ann Donovan,
Director, Community Development Financial Institutions Fund .

[FR Doc. 2018-01998 Filed 1-31-18; 8:45 am]

BILLING CODE 4810-70-P